Title 3—

The President

Proclamation 9850 of March 15, 2019

National Poison Prevention Week, 2019

By the President of the United States of America

A Proclamation

During National Poison Prevention Week, we raise awareness about the reality of unintentional poisoning in America, and we recommit to educating all Americans about how best to prevent tragedy from striking our loved ones and our communities. More than 90 percent of accidental poisonings occur in the home, and children are particularly vulnerable. Each year, an average of 85,000 children visit emergency rooms across our Nation to receive care after exposure to poison. We all share a responsibility to keep harmful items, including dangerous medications, cosmetics, household cleaning supplies, laundry detergent, pesticides, and batteries, out of sight and out of the reach of children. “Take Back Day” events, which encourage Americans to dispose of potentially harmful medications, among other substances, are also great opportunities for Americans to participate in the broader effort to reduce the number of accidental poisonings in our country.

Tragically, our Nation's opioid epidemic has only added to the number of unintentional poisoning deaths. To address this growing crisis, I announced my Initiative to Stop Opioid Abuse, which is aimed at reducing the demand for drugs through education, awareness, and preventing over-prescription. My Administration has also worked with the Congress to secure more than $6 billion in funding to help combat the drug abuse and opioid epidemic through prevention, treatment and recovery services, interdiction, and law enforcement efforts. Additionally, I signed into law the SUPPORT Act, the largest legislative effort in history to address a single drug crisis. This legislation enhances patient access to non-opioid treatment options, increases access to drug disposal, and provides support for those caring for babies prenatally exposed to drugs.

Data from the Monitoring the Future study and the National Survey on Drug Use and Health indicate that the misuse of opioid medications among youth has declined in recent years. These encouraging findings are a sign that real progress is being made to educate our young people on the dangers of prescription drug misuse. Much work remains to be done, however, to address the misuse of prescription opioids and the use of illegal drugs in our communities. All Americans, both young and old, should familiarize themselves with safe practices for prescription drug use and should apply these important practices to their daily routines.

This week, and always, I implore all Americans to remain vigilant in protecting themselves and their families from unintended exposure to poisons, and to take the steps necessary to reduce the availability of potentially harmful substances. By making prevention a priority, we can help avoid the devastating consequences often caused by unintentional poisonings and drug overdoses.

To encourage Americans to learn more about the dangers of unintentional poisonings and to take appropriate preventative measures, on September 26, 1961, the Congress, by joint resolution (75 Stat. 681), authorized and requested the President to issue a proclamation designating the third week of March each year as “National Poison Prevention Week.”

NOW, THEREFORE, I, DONALD J. TRUMP, President of the United States of America, do hereby proclaim March 17, 2019, through March 23, 2019, to be National Poison Prevention Week. I call upon all Americans to observe this week by taking actions to safeguard their families from poisonous products, chemicals, medicines, and drugs found in their homes, and to raise awareness about these dangers in order to prevent accidental injuries and deaths.

IN WITNESS WHEREOF, I have hereunto set my hand this fifteenth day of March, in the year of our Lord two thousand nineteen, and of the Independence of the United States of America the two hundred and forty-third.

[FR Doc. 2019-05472

Filed 3-19-19; 11:15 am]

Billing code 3295-F9-P